DEPARTMENT OF HEALTH AND HUMAN SERVICES

Health Resources and Services Administration

Nurse Education, Practice, Quality and Retention—Veteran's Bachelor of Science Degree in Nursing Program

AGENCY: Health Resources and Services Administration (HRSA), Department of Health and Human Services.

ACTION: Notice of single-source awards for Nurse Education, Practice, Quality and Retention—Veteran's Bachelor of Science Degree in Nursing Program.

SUMMARY: HRSA is providing single-source awards to two cohorts of current Nurse Education, Practice, Quality and Retention (NEPQR)—Veteran's Bachelor of Science Degree in Nursing (VBSN) Program recipients. The purpose of the NEPQR-VBSN program is to provide training to veterans and equip them with the tools necessary to successfully transition into civilian nurse professional careers. These awards will enable NEPQR-VBSN grantees to continue to train the 672 veteran students who are in the middle of their degree studies. Of this number, approximately 120 students are expected to graduate in 2018, take the NCLEX-RN licensing exam, and transition as highly skilled BSN nurses into the civilian workforce. Approximately $6.2 million is available for single-source awards to these NEPQR-VBSN grantees.

FOR FURTHER INFORMATION CONTACT: Kasey Farrell, Nursing Education and Practice Branch Chief, Division of Nursing and Public Health, Bureau of Health Workforce, Health Resources and Services Administration, 5600 Fishers Lane, 11N110, Rockville, Maryland 20857, Phone: (301) 443-0188, Email: kfarrell@hrsa.gov.

SUPPLEMENTARY INFORMATION:

Intended Recipients of the Awards:

University of Alabama, Birmingham

Florida International University (will receive two awards)

University of South Florida

Jacksonville University

Davenport University

Research Foundation of State University of New York, Stony Brook

University of Texas at Arlington

Hampton University

Shenandoah University

National University

George Washington University

University of Hawaii, Manoa

University of Kentucky, Lexington

University of Michigan, Flint

University of Southern Mississippi

University of North Carolina, Greensboro

Excelsior University

Duquesne University

Francis Marion University

Amount of Awards: $6,243,412.

Project Period: July 1, 2017, to June 30, 2018 OR September 1, 2017, to August 31, 2018.

CFDA Number: 93.359.

Authority: Sections 831 and 831A of the Public Health Service (PHS) Act.

Justification: One-year awards for NEPQR-VBSN Program recipients will enable grant recipients to support the 672 veterans enrolled in the program. For the proposed 1-year budget period, the program funds shall be used for the same purposes as the grant recipients' current statement of work (e.g., supporting, teaching and graduating veteran students and developing models for preparing faculty members and other personnel to work with and teach veteran students). This single-source award will help grantees support the current veteran students enrolled in the program and align all NEPQR-VBSN grantee project periods to end in 2018.

Dated: May 30, 2017.
George Sigounas,
Administrator.

[FR Doc. 2017-11708 Filed 6-5-17; 8:45 am]

BILLING CODE 4165-15-P